NUCLEAR REGULATORY COMMISSION

[Docket Nos. 50-275 and 50-323; NRC-2023-0192]

Pacific Gas and Electric Company; Diablo Canyon Nuclear Power Plant, Units 1 and 2; Draft Supplemental Environmental Impact Statement

AGENCY: Nuclear Regulatory Commission.

ACTION: Public meetings and request for comment.

SUMMARY: The U.S. Nuclear Regulatory Commission (NRC) is issuing for public comment draft Supplement 62 to the Generic Environmental Impact Statement (GEIS) for License Renewal of Nuclear Plants, NUREG-1437, regarding the proposed renewal of Facility Operating License Nos. DPR-80 and DPR-82 for an additional 20 years for Diablo Canyon Nuclear Power Plant, Units 1 and 2 (Diablo Canyon). Diablo Canyon is located in San Luis Obispo County, California, approximately 12 miles west-southwest of San Luis Obispo. Possible alternatives to the proposed action of license renewal for Diablo Canyon include the no-action alternative and replacement power alternatives.

DATES: The NRC will hold a virtual public meeting on November 14, 2024, at 10 a.m. pacific time (PT) and an in-person public meeting on November 20, 2024, at 6 p.m. PT. The public meeting details can be found on the NRC's Public Meeting Schedule at https://www.nrc.gov/pmns/mtg. Members of the public are invited to submit comments by December 16, 2024. Comments received after that date will be considered if it is practical to do so, but the NRC is able to ensure consideration only for comments received on or before that date.

ADDRESSES: You may submit comments by any of the following methods; however, the NRC encourages electronic comment submission through the Federal rulemaking website:

• Federal Rulemaking Website: Go to https://www.regulations.gov and search for Docket ID NRC-2023-0192. Address questions about Docket IDs in Regulations.gov to Stacy Schumann; telephone: 301-415-0624; email: Stacy.Schumann@nrc.gov. For technical questions, contact the individual listed in the FOR FURTHER INFORMATION CONTACT section of this document.

• Email: Comments may be submitted to the NRC electronically using the email address DiabloCanyonEnvironmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kim Conway, Office of Nuclear Material Safety and Safeguards, U.S. Nuclear Regulatory Commission, Washington, DC 20555-0001; telephone: 301-415-1335; email: Kimberly.Conway@nrc.gov.

SUPPLEMENTARY INFORMATION:

I. Obtaining Information and Submitting Comments

A. Obtaining Information

Please refer to Docket ID NRC-2023-0192 when contacting the NRC about the availability of information for this action. You may obtain publicly available information related to this action using any of the following methods:

• Federal Rulemaking Website: Go to https://www.regulations.gov and search for Docket ID NRC-2023-0192.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft Supplement 62 to the GEIS for License Renewal of Nuclear Plants, NUREG-1437, is available in ADAMS under Accession No. ML24299A167.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

• Public Library: A copy of draft Supplement 62 to the GEIS for License Renewal of Nuclear Plants, NUREG-1437, regarding the proposed renewal of Facility Operating License Nos. DPR-80 and DPR-82 for an additional 20 years for Diablo Canyon will be available for public review at the San Luis Obispo Library, 995 Palm St., San Luis Obispo, CA 93403.

B. Submitting Comments

The NRC encourages electronic comment submission through the Federal rulemaking website (https://www.regulations.gov). Please include Docket ID NRC-2023-0192 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is issuing for public comment draft Supplement 62 to the GEIS for License Renewal of Nuclear Plants, NUREG-1437, regarding the proposed renewal of Facility Operating License Nos. DPR-80 and DPR-82 for an additional 20 years for Diablo Canyon. Draft Supplement 62 to the GEIS includes the NRC staff's evaluation of the environmental impacts of the proposed action and alternatives to the proposed action. The NRC staff's preliminary recommendation is that the adverse environmental impacts of license renewal for Diablo Canyon are not so great that preserving the option of license renewal for energy-planning decisionmakers would be unreasonable.

Dated: October 28, 2024.
For the Nuclear Regulatory Commission.
Theodore Smith,
Acting Deputy Director, Division of Rulemaking, Environmental, and Financial Support, Office of Nuclear Material Safety and Safeguards.

[FR Doc. 2024-25444 Filed 10-31-24; 8:45 am]

BILLING CODE 7590-01-P